DEPARTMENT OF DEFENSE

Department of the Army; Corps of Engineers

Intent To Prepare a Draft Environmental Impact Statement for a Proposed Reservoir Operating Plan in Conjunction With the Reservoir Operating Plan Evaluation Study for the Mississippi Headwaters

AGENCY: Department of the Army, U.S. Army Corps of Engineers, DoD.

ACTION: Notice of intent.

SUMMARY: The headwaters region of the Mississippi River, located in north-central Minnesota, contains a number of reservoirs operated by various private and public entities, including the Corps of Engineers (Corps) and the U.S. Forest Service (Forest Service). The current operating plans for the Corps and Forest Service reservoirs were developed over 40 years ago and are in need of revision because of changes in environmental, social, and economic conditions in the region. It is unlikely that the current operating plans provide the greatest net benefit to the resources of the whole system. Furthermore, the operations of the non-Federal (State and privately owned) reservoirs are not coordinated with the Federal reservoir operations. This hinders system-wide objectives such as flood damage reduction for properties adjacent to and downstream of the reservoirs.

The proposed action is to develop a coordinated system-wide operational plan for implementation by the Corps and the Forest Service with recommendations for the operations of the non-Federal dams. The goal of this proposed action is to optimize the system benefits for all affected resources. Some resources may be adversely affected as a result of the proposed action. It is possible that other projects, such as dam modifications and habitat improvement projects, may be recommended under the Reservoir Operating Plan Evaluation (ROPE); however, the implementation of such projects may require additional planning and National Environmental Policy Act (NEPA) processes.

FOR FURTHER INFORMATION CONTACT: Questions about the proposed action and Draft Environmental Impact Statement (DEIS) can be directed to: Colonel Robert L. Ball, District Engineer, St. Paul District, Corps of Engineers, ATTN: Mr. Terry J. Birkenstock, Chief, Environmental and Economic Analysis Branch, 190 Fifth Street East, St. Paul, MN 55101-1638, telephone: (651) 290-5264.

SUPPLEMENTARY INFORMATION: The ROPE Study focuses on the Mississippi River between St. Paul and Bemidji, Minnesota. The headwaters region of the Mississippi River, located in north-central Minnesota, contains a number of reservoirs operated by various public and private entities. For example, the Corps operates dams on the following waterbodies: Leech Lake, Lake Winnibigoshish, Big Sandy Lake, Pine River (Whitefish Lake Chain), Pokegama Lake, and Gull Lake. Knutson Dam on Cass Lake is operated by the Forest Service. The Stump Lake Dam controls the Lake Bemidji lake chain and is operated by Ottertail Power Company. Similarly, Minnesota Power operates a power dam on the Prairie River upstream of Aitkin, Minnesota. Mud Lake Dam, located downstream from Leech Lake, is operated by the Minnesota Department of Natural Resources, primarily for fish and wildlife purposes.

The original authorized purpose for the Corps dams was to provide low flow augmentation for navigation on the Mississippi River as far south as the Twin Cities of St. Paul and Minneapolis. However, flood control, recreation, hydropower, water supply, and enhanced fish and wildlife production have subsequently been added as authorized project purposes. Knutson Dam is operated by the Forest Service primarily to maintain lake levels for recreational navigation and environmental purposes.

The ROPE Study and its associated NEPA documentation will be prepared by the Corps and the Forest Service. The Corps will act as the lead agency and the Forest Service will act as a cooperating agency. The primary focus of the ROPE Study will be the operation of the Federal dams in the study area; however, system-wide planning and coordination with the operators of the non-Federal dams will be included as a part of the study effort to the extent that cooperation and resources permit.

A number of general operational changes have been identified that, individually or in combination, will be considered study alternatives. These include changes to current reservoir levels, minimum flow requirements, outflow rates-of-change (ramping), and the timing of and need for reservoir drawdowns. This study will evaluate an alternative plan for dam operation to more closely mimic natural hydrology, and a no-action alternative with no changes to the current operating plans.

Significant resources and issues to be addressed in the DEIS will be determined through coordination with Federal agencies, State agencies, tribal governments, local governments, the general public, interested private organizations, and industry. Anyone who has an interest in participating in the development of the DEIS is invited to contact the St. Paul District, Corps of Engineers.

To date, the following areas of discussion have been identified for inclusion in the DEIS:

1. Navigation (to the extent it is still a Federal project purpose for the headwaters reservoirs).

2. Treaty rights, tribal trust resources, and other areas of special tribal interest such as wild ricing, fishing, and hunting.

3. Flood damage reduction (around the lakes and along the receiving rivers).

4. Fish and wildlife (with an emphasis on enhancement, restoration, and preservation of lake, river, and floodplain habitats).

5. Recreation and related tourism.

6. Water quality (contaminants, nutrients, dissolved oxygen, etc.) and water quantity (including low flow augmentation, drought reduction, waste assimilation, and water supply).

7. Erosion and sedimentation (lake and riverine damage).

8. Hydropower.

9. Archeological, cultural, and historic resources.

Additional areas of interest may be identified through the scoping process, which will include public and agency meetings. A notice of these meetings will be provided to interested parties and to local news media.

The Corps has determined that the selection of a combined operating plan for the federally operated headwaters reservoirs has the potential to significantly affect the quality of the human environment. Therefore, the Corps and the Forest Service have jointly determined that the preparation of an Environmental Impact Statement is appropriate.

An environmental review will be conducted under the NEPA of 1969 and other applicable laws and regulations. It is anticipated that the DEIS will be available for public review in the winter of 2004-2005.

Dated: September 8, 2003.
Robert L. Ball,
Colonel, Corps of Engineers, District Engineer.

[FR Doc. 03-30802 Filed 12-11-03; 8:45 am]

BILLING CODE 3710-CY-M